DEPARTMENT OF COMMERCE

National Oceanic and Atmospheric Administration

[Docket No. 060516133-6133-01]

The Preliminary Report of the NOAA Science Advisory Board, Hurricane Intensity Research Working Group, External Review of NOAA's Hurricane Intensity Research and Development Enterprise

AGENCY: Office of Oceanic and Atmospheric Research (OAR), National Oceanic and Atmospheric Administration (NOAA), Department of Commerce (DOC).

ACTION: Notice of availability and request for public comment.

SUMMARY: NOAA Research (OAR) publishes this notice on behalf of the NOAA Science Advisory Board (SAB) to announce the availability of the preliminary report of the SAB Hurricane Intensity Research Working Group (here called the HIRWG) external review of NOAA's Hurricane Intensity Research and Development Enterprise for public comment. The preliminary report of the HIRWG has been prepared pursuant to the request from the Under Secretary of Commerce for Oceans and Atmosphere to the SAB to conduct an external review of NOAA's Hurricane Intensity research and development enterprise.

DATES: Comments on this preliminary report must be submitted by 5 p.m. EDT on June 23, 2006.

ADDRESSES: The Preliminary Report of the HIRWG will be available on the NOAA Science Advisory Board Web site at http://www.sab.noaa.gov/reports/SAB_HIRWG_0506.pdf.

The public is encouraged to submit comments electronically to noaa.sab.comments2@noaa.gov. For individuals who do not have access to a computer, comments may be submitted in writing to: NOAA Science Advisory Board (SAB) c/o Dr. Cynthia Decker, Silver Spring Metro Center Bldg 3 Room 11117, 1315 East-West Highway, Silver Spring, Maryland 20910.

FOR FURTHER INFORMATION CONTACT: Dr. Cynthia Decker, Executive Director, Science Advisory Board, NOAA, Rm. 11117, 1315 East-West Highway, Silver Spring, Maryland 20910. (Phone: 301-713-9121, Fax: 301-713-3515, E-mail: Cynthia.Decker@noaa.gov) during normal business hours of 9 a.m. to 5 p.m. Eastern Time, Monday through Friday, or visit the NOAA SAB Web site at http://www.sab.noaa.gov.

SUPPLEMENTARY INFORMATION: The preliminary report of the HIRWG has been drafted pursuant to the request from the Under Secretary of Commerce for Oceans and Atmosphere to the SAB to conduct an external review of NOAA's hurricane intensity research and development enterprise. This review addresses questions and draft recommendations regarding the appropriateness of the mix of scientific activities conducted and/or sponsored by NOAA to its mission and on the organization of NOAA hurricane intensity research and development enterprise. The report recommends that NOAA strengthen its efforts to develop numerical models which incorporate essential physics and have sufficient resolution to resolve hurricane structure. The essential physics includes full representation of clouds and a much improved representation of the exchanges of heat, moisture, and momentum at the atmosphere-ocean surface. Development of these representations will require extensive analysis of data from carefully planned field studies using both traditional airborne and ground-based observing systems and novel observing platforms such as Unmanned Aerial Vehicles.

The SAB is chartered under the Federal Advisory Committee Act and is the only Federal Advisory Committee with the responsibility to advise the Under Secretary on long- and short-term strategies for research, education, and application of science to resource management and environmental assessment and prediction.

NOAA welcomes all comments on the content of the preliminary report. We also request comments on any inconsistencies perceived within the report, and possible omissions of important topics or issues. This preliminary report is being issued for comment only and is not intended for interim use. For any shortcoming noted within the preliminary report, please propose specific remedies. Suggested changes will be incorporated where appropriate, and a final report will be posted on the SAB Web site.

Please follow these instructions for preparing and submitting comments. Using the format guidance described below will facilitate the processing of comments and assure that all comments are appropriately considered. Please provide background information about yourself on the first page of your comments: Your name(s), organization(s), area(s) of expertise, mailing address(es), telephone and fax numbers, e-mail address(es).

Overview comments on the section should follow your background information and should be numbered. Comments that are specific to particular pages, paragraphs or lines of the section should follow any overview comments and should identify the page numbers to which they apply. Please number all pages and place your name at the top of each page.

Dated: May 18, 2006.
Mark E. Brown,
Chief Financial Officer / Chief Administrative Officer, Office of Oceanic and Atmospheric Research, National Oceanic and Atmospheric Administration.

[FR Doc. E6-7966 Filed 5-23-06; 8:45 am]

BILLING CODE 3510-KD-P